DEPARTMENT OF HEALTH AND HUMAN SERVICES

National Institutes of Health

National Institute of Neurological Disorders and Stroke; Amended Notice of Meeting

Notice is hereby given of a change in the meeting of the National Institute of Neurological Disorders and Stroke Special Emphasis Panel, March 07, 2024, 10:00 a.m. to March 08, 2024, 06:00 p.m., National Institutes of Health, Neuroscience Center, 6001 Executive Boulevard, Rockville, MD 20852 which was published in the Federal Register on February 09, 2024, FR Doc. 2024-02654, 89 FR 9165.

This notice is being amended to change this from a two-day meeting on March 7-8, 2024, to a one-day meeting on March 7, 2024. The meeting time remains the same. The meeting is closed to the public.

Dated: February 9, 2024.
Lauren A. Fleck,
Program Analyst, Office of Federal Advisory Committee Policy.

[FR Doc. 2024-03102 Filed 2-14-24; 8:45 am]

BILLING CODE 4140-01-P